AGENCY FOR INTERNATIONAL DEVELOPMENT

Notice of Public Information Collections Being Reviewed by the U.S. Agency for International Development; Comments Requested

SUMMARY: U.S. Agency for International Development (USAID) is making efforts to reduce the paperwork burden. USAID invites the general public and other Federal agencies to take this opportunity to comment on the following proposed and/or continuing information collections, as required by the Paperwork Reduction Act for 1995. Comments are requested concerning: (a) Whether the proposed or continuing collections of information are necessary for the proper performance of the functions of the agency, including whether the information shall have practical utility; (b) the accuracy of the burden estimates; (c) ways to enhance the quality, utility, and clarity of the information collected; and (d) ways to minimize the burden of the collection of information on the respondents, including the use of automated collection techniques or other forms of information technology.

DATES: Submit comments on or before February 11, 2013.

FOR FURTHER INFORMATION CONTACT: Sylvia Joyner, Bureau for Management, Office of Management Services, Information and Records Division, U.S. Agency for International Development, Room 2.07C, RRB, Washington, DC, 20523, (202) 712-5007 or via email sjoyner@usaid.gov.

ADDRESSES: Send comments via email at jltaylor@usaid.gov, U.S. Agency for International Development, Office of Acquisition and Assistance, 1300 Pennsylvania Avenue NW., SA-44 Room 897-C, Washington DC 20523, 202-712-1752.

SUPPLEMENTARY INFORMATION: OMB No: OMB 0412-0549.

Form No.: AID 302-3.

Title: Offeror Information for Personnel Services Contracts.

Type of Review: A New Information Collection.

Purpose: United States Agency for International Development must collect information for reporting purposes to Congress and Office of Acquisition and Assistance Contract Administration. This collection is to gather information from applicants applying for personal services contractor positions. This form will be utilized to collect information to determine the most qualified person for a position without gathering information which may lead to discrimination or bias information towards or gathered from applicant.

Annual Reporting Burden

Respondents: 5000.

Total annual responses: 10,000.

Total annual hours requested: 10,000 hours.

Dated: December 4, 2012.
Lynn Winston,
Information and Records Division, U.S. Agency for International Development.

[FR Doc. 2012-29647 Filed 12-10-12; 8:45 am]

BILLING CODE P